DEPARTMENT OF THE INTERIOR

Fish and Wildlife Service

[FWS-R1-ES-2007-N0005]

Proposed Safe Harbor Agreement for the Guam Rail on Cocos Island, Guam

AGENCY: Fish and Wildlife Service, Interior.

ACTION: Receipt of application; notice of availability.

SUMMARY: We, the U.S. Fish and Wildlife Service (Service), have received applications for enhancement of survival permits pursuant to section 10(a)(1)(A) of the Endangered Species Act of 1973, as amended (ESA), from Cocos Island Resort and the Guam Department of Agriculture (Applicants). The permit applications include a proposed Safe Harbor Agreement (SHA) among the Applicants and the Service. Implementation of the proposed SHA provides for voluntary habitat restoration, maintenance, enhancement, or the creation of activities to enhance the habitat and recovery of the Guam rail (Gallirallus owstonii) (“Covered Species”) on 83.1 acres of non-Federal lands on Cocos Island, Guam. The proposed duration of both the SHA and permits is 10 years.

The Service has made a preliminary determination that the proposed SHA and permit application are eligible for categorical exclusion under the National Environmental Policy Act of 1969 (NEPA). The basis for this determination is contained in an Environmental Action Statement which also is available for public review.

DATES: All comments from interested parties must be received on or before February 11, 2008.

ADDRESSES: Please address written comments to Patrick Leonard, Field Supervisor, Pacific Islands Fish and Wildlife Office, 300 Ala Moana Boulevard, Room #3-122, Honolulu, HI 96850. You may also send comments by facsimile at (808) 792-9580.

FOR FURTHER INFORMATION CONTACT: Jeff Newman, Assistant Field Supervisor (see ADDRESSES), telephone (808) 792-9400.

SUPPLEMENTARY INFORMATION:

Availability of Documents

Copies of the draft documents and permit applications are available for public inspection, by appointment between the hours of 8 a.m. and 5 p.m. at the Pacific Islands Fish and Wildlife Office (see ADDRESSES). You may also request copies of the documents by contacting the Service's Pacific Island Fish and Wildlife Office (see FOR FURTHER INFORMATION CONTACT). We are furnishing this notice to provide the public, other state and Federal agencies, and tribes an opportunity to review and comment on these documents. Before including your address, phone number, e-mail address, or other personal identifying information in your comment, you should be aware that your entire comment—including your personal identifying information—may be made publicly available at any time. While you can ask us in your comment to withhold your personal identifying information from public review, we cannot guarantee that we will be able to do so.

Background

A SHA encourages private landowners to conduct voluntary conservation activities and assures them that they will not be subjected to increased listed species restrictions should their beneficial stewardship efforts result in increased numbers of listed species. As long as enrolled landowners maintain agreed-upon baseline responsibilities, they may make any other lawful use of the enrolled property during the permit term, even if such use results in the take of individuals of the Federally listed species named within the permit. Application requirements and issuance criteria for enhancement of survival permits and SHAs are found in 50 CFR 17.22(c). The primary objective of this proposed SHA is to establish a breeding population of Guam rails on Cocos Island by providing a predator-controlled habitat.

The private lands subject to this proposed SHA and permit consist of 83.1 acres of mixed forest and beach strand habitat on Cocos Island, Guam. Current land use practices include the operation of a day resort for tourists and overnight camping. Habitat conditions vary from manicured lawn surrounding the buildings to mixed native forest with invasive vines. The Guam rail was last observed in the wild on Northern Guam in the mid-1980s; therefore, the baseline for the species is zero, and there are no prohibitions on the use of the property or responsibilities for protecting existing individuals of the Guam rail or its habitat. However, management activities by the Applicants and other cooperators to encourage the establishment and survival of Guam rails on the enrolled lands during the term of the proposed SHA and the permit include: (1) Eradicating rats and mice and control monitor lizard population on Cocos Island prior to release of Guam rail; (2) reducing likelihood of reintroduction of rats, mice, and the introduction of the brown treesnake; (3) developing and implementing a forest enhancement plan to reduce invasive plant species and increase native plant species on Cocos Island; (4) releasing Guam rails and monitoring survivorship, breeding behavior, habitat preference, and nesting success; and (5) creating materials to promote understanding of wildlife recovery and invasive species issues for Cocos Island staff and visitors.

Based upon the probable species' response, we estimate it will take 10 years of implementing the planned conservation measures to fully reach a net conservation benefit for the Guam rail; some level of benefit is expected within a shorter period of time as a result of predator control and habitat restoration effort. The duration of the SHA and permits will be for a term of 10 years, although both may be renewed upon approval by the Service.

We believe that approval of the proposed SHA may qualify for a categorical exclusion under NEPA, as provided by the Department of Interior Manual (516 DM 2, Appendix 1 and 516 DM 6, Appendix 1) Based on the following criteria: (1) Implementation of the SHA would result in minor or negligible effects on federally listed, proposed, and candidate species and their habitats; (2) implementation of the SHA would result in minor or negligible effects on other environmental values or resources; and (3) impacts of the SHA, considered together with the impacts of other past, present and reasonably foreseeable similarly situated projects, would not result, over time, in cumulative effects to environmental values or resources which would be considered significant. This is more fully explained in our draft EAS. We will consider public comments in making its final determination on whether to prepare such additional NEPA documentation.

This notice is provided pursuant to section 10(c) of the ESA and NEPA regulations (40 CFR 1506.6). The Service will evaluate the permit application, associated documents, and comments submitted thereon to determine whether the proposed Agreement and permit application meets the requirements of section 10(a) of the ESA and NEPA regulations. The final NEPA and permit determinations will not be completed until after the end of the 30-day comment period and will fully consider all comments received during the comment period.

Dated: December 31, 2007.
Jeff Newman,
Acting Field Supervisor, Pacific Islands Fish and Wildlife Office, Honolulu, Hawaii.

[FR Doc. E8-254 Filed 1-9-08; 8:45 am]

BILLING CODE 4310-55-P